DEPARTMENT OF JUSTICE

Notice of Lodging of Consent Decree Under the Clean Air Act

Notice is hereby given that on August 11, 2006, a proposed decree in United States v. A. Finkl & Sons Company, Civil Action No. 06 C 4297, was lodged with the United States District Court for the Northern District of Illinois.

In this action the United States sought injunctive relief and civil penalties for violations of the New Source Performance Standards (NSPS) for Electric Arc Furnaces and Argon-Oxygen Decarburization Vessels at a steel forging plant owned and operated by A. Finkl & Sons Company (A. Finkl) at 2011 Southport Avenue in Chicago, Illinois. The consent decree will require A. Finkl to comply with all applicable requirements of the NSPS, including emission standards, operational and equipment standards, maintenance requirements, record-keeping and reporting requirements. A. Finkl will also submit to Illinois EPA an application for an amendment to its Title V permit to provide for compliance with the emission limitations and other requirements of the NSPS. Under the proposed consent decree, A. Finkl will pay a civil penalty of $75,000. In addition, A. Finkl will spend $620,000 to perform two supplemental environmental projects: (1) A. Finkl will install low NOX burners on one of its gas fired furnaces at a cost of $545,000, resulting in an expected reduction of five tons per year in NOX emissions; and (2) A. Finkl will spend $75,000 to retrofit 34 vehicles owned by the City of Chicago with diesel oxidation catalysts.

The Department of Justice will receive for a period of thirty (30) days from the date of this publication comments relating to the consent decree. Comments should be addressed to the Assistant Attorney General, Environmental and Natural Resources Division, P.O. Box 7611, U.S. Department of Justice, Washington, DC 20044-7611, and should refer to United States v. A. Finkl & Sons Company, Civil Action No. 06 C 4297, DOJ case Number 90-5-2-1-08203.

The consent decree may be examined at the Office of the United States Attorney, 219 S. Dearborn St., Chicago, Illinois, and at U.S. EPA Region 5, 77 W. Jackson Blvd., Chicago, Illinois. During the public comment period, the consent decree may also be examined on the following Department of Justice Web site: http://www.usdoj.gov/enrd/Consent_Decrees.html. A copy of the consent decree may also be obtained by mail from the Consent Decree Library, P.O. Box 7611, U.S. Department of Justice, Washington, DC 20044-7611, or by faxing or e-mailing a request to Tonia Fleetwood (tonia.fleetwood@usdoj.gov) fax no. (202) 514-0097, phone confirmation number (202) 514-1547. In requesting a copy from the Consent Decree Library, please enclose a check in the amount of $35.00, payable to the U.S. Treasury or, if by e-mail or fax, forward a check in that amount to the Consent Decree Library at the stated address.

William D. Brighton,
Assistant Chief, Environmental Enforcement Section, Environment and Natural Resources Division.

[FR Doc. 06-6993 Filed 8-17-06; 8:45 am]

BILLING CODE 4410-15-M